POSTAL SERVICE

Board of Governors; Sunshine Act Meeting

DATES AND TIMES: March 5, 2021, at 1:00 p.m.

PLACE: Washington, DC

STATUS: Closed.

MATTERS TO BE CONSIDERED: 1. Strategic Issues.

2. Financial Issues.

3. Compensation and Personnel Matters.

4. Administrative Items.

General Counsel Certification: The General Counsel of the United States Postal Service has certified that the meeting may be closed under the Government in the Sunshine Act.

CONTACT PERSON FOR MORE INFORMATION: Michael J. Elston, Secretary of the Board, U.S. Postal Service, 475 L'Enfant Plaza SW, Washington, DC 20260-1000. Telephone: (202) 268-4800.

Katherine Sigler,
Assistant Secretary.

[FR Doc. 2021-04358 Filed 2-26-21; 11:15 am]

BILLING CODE 7710-12-P